DEPARTMENT OF AGRICULTURE

Animal and Plant Health Inspection Service

[Docket No. APHIS-2018-0099]

Notice of Request for Reinstatement of an Information Collection; National Animal Health Reporting System

AGENCY: Animal and Plant Health Inspection Service, USDA.

ACTION: Reinstatement of an information collection; comment request.

SUMMARY: In accordance with the Paperwork Reduction Act of 1995, this notice announces the Animal and Plant Health Inspection Service's intention to request the reinstatement of an information collection associated with the National Animal Health Reporting System.

DATES: We will consider all comments that we receive on or before April 22, 2019.

ADDRESSES: You may submit comments by either of the following methods:

• Federal eRulemaking Portal: Go to http://www.regulations.gov/#!docketDetail;D=APHIS-2018-0099.

• Postal Mail/Commercial Delivery: Send your comment to Docket No. APHIS-2018-0099 Regulatory Analysis and Development, PPD, APHIS, Station 3A-03.8, 4700 River Road, Unit 118, Riverdale, MD 20737-1238.

Supporting documents and any comments we receive on this docket may be viewed at http://www.regulations.gov/#!docketDetail;D=APHIS-2018-0099 or in our reading room, which is located in room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For more information on the National Animal Health Reporting System, contact Mr. Bill Kelley, Supervisory Analyst, Centers for Epidemiology and Animal Health, VS, APHIS, 2150 Centre Avenue, Building B, MS 2E6, Fort Collins, CO 80526; (970) 494-7270. For more detailed information on the information collection, contact Ms. Kimberly Hardy, APHIS' Information Collection Coordinator, at (301) 851-2483.

SUPPLEMENTARY INFORMATION:

Title: National Animal Health Reporting System (NAHRS).

OMB Control Number: 0579-0299.

Type of Request: Reinstatement of an information collection.

Abstract: Under the Animal Health Protection Act (7 U.S.C. 8301 et seq.), the Animal Plant Health Inspection Service (APHIS) is authorized, among other things, to prohibit or restrict the importation and interstate movement of animals and other articles to prevent the introduction and interstate spread of livestock diseases and to eradicate such diseases from the United States when feasible. In connection with this mission, APHIS operates the National Animal Health Reporting System (NAHRS), which collects, on a national basis, data monthly from State veterinarians on the presence or absence of diseases of interest to the World Organization for Animal Health (OIE).

As a member country of OIE, the United States must submit reports to the OIE on the status of certain diseases in specific livestock, poultry, and aquaculture species. Reportable diseases are diseases that have the potential for rapid spread, irrespective of national borders, that are of serious socioeconomic or public health consequence, and that are of major importance in the international trade of animals and animal products. The potential benefits to trade of accurate reporting on the health status of the U.S. commercial livestock, poultry, and aquaculture industries include expansion of those industries into new export markets, and preservation of existing markets through increased confidence in quality and disease freedom. This data collection is unique in terms of the type, quantity, and frequency; no other entity is collecting and reporting data to the OIE on the health status of U.S. livestock, poultry, and aquaculture.

We are asking the Office of Management and Budget (OMB) to approve these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies, e.g., permitting electronic submission of responses.

Estimate of burden: The public burden for this collection of information is estimated to average 8 hours per response.

Respondents: State animal health officials.

Estimated annual number of respondents: 52.

Estimated annual number of responses per respondent: 12.

Estimated annual number of responses: 624.

Estimated total annual burden on respondents: 4,992 hours. (Due to averaging, the total annual burden hours may not equal the product of the annual number of responses multiplied by the reporting burden per response.)

All responses to this notice will be summarized and included in the request for OMB approval. All comments will also become a matter of public record.

Done in Washington, DC, this 11th day of February 2019.
Kevin Shea,
Administrator, Animal and Plant Health Inspection Service.

[FR Doc. 2019-02580 Filed 2-15-19; 8:45 am]

BILLING CODE 3410-34-P